DEPARTMENT OF VETERANS AFFAIRS

Veterans' Disability Benefits Commission; Notice of Meeting

The Department of Veterans Affairs (VA) gives notice under Public Law 92-463, the Federal Advisory Committee Act, that the Veterans' Disability Benefits Commission has scheduled a meeting for July 22, 2005, in the Hamilton Ballroom on the lower level of the Hamilton Crowne Plaza, located on the corner of 14th and K Streets, at 1001-14th Street NW., Washington, DC 20005. The meeting will convene at 8:30 a.m. and conclude at 4:30 p.m. and is open to the public.

The purpose of the Commission is to carry out a study of the benefits under the laws of the United States that are provided to compensate and assist veterans and their survivors for disabilities and deaths attributable to military service. The Commission is dedicated to conducting a thorough, objective, and impartial analysis of the full range of programs that are intended to meet the needs of veterans. The Commission will receive briefings intended to provide an understanding of programs managed by VA and the Department of Defense (DoD) for disabled retirees and veterans and their survivors.

The agenda for July 22 includes remarks by the VA Under Secretary for Benefits, descriptions of military retiree and survivor populations receiving benefits, and briefings on the issue of concurrent receipt of benefits, the disability rating processes used by VA and DOD, and the establishment of presumptions.

Interested persons may attend and present oral statements to the Commission. Interested parties can provide written comments for review by the Commission at any time to Mr. Ray Wilburn, Executive Director, Veterans' Disability Benefits Commission, 1101 Pennsylvania Avenue, NW., 5th Floor, Washington, DC 20004 or by e-mail at vetscommission@va.gov.

Information on the Commission may be found at http://www.va.gov/vetscommission.

Dated: June 24, 2005.
By Direction of the Secretary:
E. Philip Riggin,
Committee Management Officer.

[FR Doc. 05-12958 Filed 6-29-05; 8:45 am]

BILLING CODE 8320-01-M